FEDERAL ELECTION COMMISSION

[Notice 2002—18]

Filing Dates for the Hawaii Special Election in the 2nd Congressional District

AGENCY: Federal Election Commission.

ACTION: Notice of filing dates for special election.

SUMMARY: Hawaii has scheduled a special election on November 30, 2002, to fill the U.S. House of Representatives seat in the Second Congressional District held by the late Congresswoman Patsy T. Mink.

Committees participating in the Hawaii special election are required to file pre- and post-election reports.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates participating in the Hawaii Special General shall file a 12-day Pre-General Report on November 18, 2002; and a 30-day Post-General Report on December 30, 2002. (See chart below for the closing date for each report).

Unauthorized Committees (PACs and Party Committees)

Political Committees that file on a quarterly basis during 2002 are subject to special election reporting if they make previously undisclosed contributions or expenditures in connection with the Hawaii Special General Election by the close of books for the applicable report(s). (See chart below for the closing date for each report).

Committees filing monthly that support candidates in the Hawaii Special General should continue to file according to the election year monthly reporting schedule.

Calendar of Reporting Dates for Hawaii Special Election
Report | Close of books ¹ | Reg./cert. mailing date ² | Filing date
Committees Involved in the Special General (11/30/02) Must File
Pre-General | 11/10/02 | 11/15/02 | 11/18/02
Post-General | 12/20/02 | 12/30/02 | 12/30/02
Year-End | 12/31/02 | 01/31/03 | 01/31/03
¹ The period begins with the close of books of the last report filed by the committee. If the committee has filed no previous reports, the period begins with the date of the committee's first activity.
² Reports sent registered or certified mail must be postmarked by the mailing date; otherwise, they must be received by the filing date.

Dated: October 7, 2002.
David M. Mason,
Chairman, Federal Election Commission.

[FR Doc. 02-26119 Filed 10-11-02; 8:45 am]

BILLING CODE 6715-01-P